DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Admittance to Practice and Roster of Registered Patent Attorneys and Agents Admitted to Practice Before the United States Patent and Trademark Office (USPTO).

Form Number(s): PTO-158, PTO-158A, PTO-275, PTO-107A, PTO-1209.

Agency Approval Number: 0651-0012.

Type of Request: Revision of a currently approved collection.

Burden: 48,227 hours annually.

Number of Respondents: 30,035 responses per year.

Avg. Hours Per Response: The USPTO estimates that it will take the registered practitioner or agent approximately 40 hours (40.0) to complete the petition for reinstatement after disciplinary removal. It is estimated to take 7 hours (7.0) to complete the registration examination to become a registered practitioner. These times include time to gather the necessary information, and prepare and submit the forms and requirements in this collection.

Needs and Uses: This information is required by 35 U.S.C. 2(b)(2)(D) and administered by the USPTO through 37 CFR 11.7(h). The information is used by the Director of the Office of Enrollment and Discipline (OED) to determine if the applicant for registration is of good moral character and repute; has the necessary legal, scientific, and technical qualifications; and is otherwise competent to advise and assist applicants in the presentation and prosecution of applications for patents. The USPTO is submitting this collection in support of a final rulemaking, “Changes to Representation of Others Before the United States Patent and Trademark Office” (RIN 0651-AB55). In this final rulemaking, the USPTO is proposing to update the rules and procedures regarding the enrollment and recognition of individuals to practice as attorneys and agents before the USPTO in patent, trademark, and other non-patent matters. These proposed changes are also expected to improve how the USPTO handles applications for registration and petitions.

Affected Public: Individuals or households; business or other for-profit; the Federal government; and State, local or tribal governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, (703) 308-7400, U.S. Patent and Trademark Office, P.O. Box 1450, Alexandria, Virginia 22313, Attn: CPK 3 Suite 310, or by e-mail at susan.brown@uspto.gov.

Written comments and recommendations for the proposed information collection should be sent on or before August 19, 2004, to David Rostker, OMB Desk Officer, Room 10202, New Executive Office Building, Washington, DC 20503.

Dated: July 14, 2004.
Susan K. Brown,
Records Officer, USPTO, Office of Data Architecture and Services, Data Administration Division.

[FR Doc. 04-16411 Filed 7-19-04; 8:45 am]

BILLING CODE 3510-16-P